DEPARTMENT OF TRANSPORTATION

Federal Railroad Administration

49 CFR Part 219

[Docket No. FRA-2001-11213, Notice No. 18]

Alcohol and Drug Testing: Determination of Minimum Random Testing Rates for 2015

AGENCY: Federal Railroad Administration (FRA), Department of Transportation (DOT).

ACTION: Notice of determination.

SUMMARY: This notice of determination provides the FRA Administrator's minimum annual random drug and alcohol testing rates for calendar year 2015. According to data from FRA's Management Information System, the rail industry's random drug testing positive rate has remained below 1.0 percent for the last two years. FRA's Administrator has therefore determined that the minimum annual random drug testing rate for the period January 1, 2015 through December 31, 2015, will remain at 25 percent of covered railroad employees. In addition, because the industry-wide random alcohol testing violation rate has remained below 0.5 percent for the last two years, the Administrator has determined that the minimum random alcohol testing rate will remain at 10 percent of covered railroad employees for the period January 1, 2015 through December 31, 2015. Railroads remain free, as always, to conduct random testing at higher rates.

DATES: This notice of determination is effective December 19, 2014.

FOR FURTHER INFORMATION CONTACT: Jerry Powers, FRA Drug and Alcohol Program Manager, W38-105, Federal Railroad Administration, 1200 New Jersey Avenue SE., Washington, DC 20590 (telephone 202-493-6313); or Sam Noe, FRA Drug and Alcohol Program Specialist (telephone 615-719-2951).

SUPPLEMENTARY INFORMATION: FRA determines the minimum annual random drug testing rate and minimum random alcohol testing rate for the next calendar year based on railroad industry data available for two calendar years (for this Notice, calendar years 2012 and 2013). Data from FRA's Management Information System shows the rail industry's random drug testing positive rate has remained below 1.0 percent for the applicable two calendar years. FRA's Administrator has therefore determined the minimum annual random drug testing rate for the period January 1, 2015, through December 31, 2015, will remain at 25 percent of covered railroad employees under 49 CFR 219.602. In addition, because the industry-wide random alcohol testing violation rate has remained below 0.5 percent for the applicable two calendar years, the Administrator has determined the minimum random alcohol testing rate will remain at 10 percent of covered railroad employees for the period January 1, 2015, through December 31, 2015 under 49 CFR 219.608. Because these rates represent minimums, railroads may conduct FRA random testing at higher rates.

Issued in Washington, DC, on December 10, 2014.
Joseph C. Szabo,
Administrator.

[FR Doc. 2014-29747 Filed 12-18-14; 8:45 am]

BILLING CODE 4910-06-P